NEIGHBORHOOD REINVESTMENT CORPORATION

Sunshine Act Meetings; Audit Committee Meeting

TIME AND DATE: 3:00 p.m., Wednesday, August 11, 2021.

PLACE: Via Conference Call.

STATUS: Parts of this meeting will be open to the public. The rest of the meeting will be closed to the public.

MATTERS TO BE CONSIDERED: Audit Committee Meeting.

The General Counsel of the Corporation has certified that in his opinion, one or more of the exemptions set forth in the Government in the Sunshine Act, 5 U.S.C. 552b (c)(2) and (4) permit closure of the following portion(s) of this meeting:

• Executive Session

Agenda

I. Call to Order

II. Executive Session with Chief Audit Executive

III. Action Item Request to Cancel Internal Audit Project: Tipalti-Third Party Vendor Contract

IV. Discussion Item Tracking Open Recommendations

a. Dependent on Other IT Projects

b. Monitoring Identity Access Management (IAM) Development

i. ITS Audit and Security Roadmap

V. Discussion Item Internal Audit Status Reports

a. Internal Audit Reports Awaiting Managements Response

HPN Launchpad

Application and Systems Change Management

Promotions and Compensation

Project Reinvest Wind-Down

Grant Appropriations Disbursement

b. Internal Audit Performance Scorecard

c. FY21 Plan Projects' Activity Summary as of July 13, 2021

d. Implementation of Internal Audit Recommendations

VI. Adjournment

CONTACT PERSON FOR MORE INFORMATION: Lakeyia Thompson, Special Assistant, (202) 524-9940; Lthompson@nw.org.

Lakeyia Thompson,
Special Assistant.

[FR Doc. 2021-16645 Filed 7-30-21; 4:15 pm]

BILLING CODE 7570-02-P